DEPARTMENT OF AGRICULTURE

Forest Service

Mendocino Resource Advisory Committee

AGENCY: Forest Service, USDA.

ACTION: Notice of meeting.

SUMMARY: The Mendocino County Resource Advisory Committee (RAC) will meet August 24, 2007 and September 14th and 28th in Willits, California. Agenda items to be covered include: (1) Approval of minutes, (2) Public Comment, (3) Extension of RAC (4) Discussion—items of interest (5) Discussion/approval of projects, (6) next items and meeting date.

DATES: The meetings will be held on August 24th, 2007 and September 14th and 28th, 2007 from 9 a.m. to 12 noon.

ADDRESSES: The meeting will be held at the Mendocino County Museum, located at 400 E. Commercial St., Willits, California.

FOR FURTHER INFORMATION CONTACT: Roberta Hurt, Committee Coordinator, USDA, Mendocino National Forest, Covelo Ranger District, 78150 Covelo CA 95428. (707) 983-8503; e-mail rhurt@fs.fed.us.

SUPPLEMENTARY INFORMATION: The meeting is open to the public. Persons who wish to bring matters to the attention of the Committee may file written statements with the Committee staff by August 15, September 10 and September 20, 2007. Public will have the opportunity to address the committee at the meeting.

Dated: July 23, 2007.
Lee Johnson,
Designated Federal Official.

[FR Doc. 07-3738 Filed 7-31-07; 8:45 am]

BILLING CODE 3410-11-M